DEPARTMENT OF DEFENSE

Office of the Secretary

Federal Advisory Committee; U.S. Air Force Scientific Advisory Board; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the U.S. Air Force Scientific Advisory Board (hereafter referred to as the Board).

FOR FURTHER INFORMATION CONTACT: Jim Freeman, Deputy Advisory Committee Management Officer for the Department of Defense, 703-601-6128.

SUPPLEMENTARY INFORMATION: The Board is a discretionary Federal advisory committee that shall provide independent advice and recommendations on matters of science and technology relating to the Air Force mission. The Board shall:

a. Provide independent technical advice to the U.S. Air Force leadership.

b. Study topics deemed critical by the Secretary of the Air Force and the Chief of Staff of the Air Force.

c. Recommend application of technology to improve U.S. Air Force capabilities.

d. Provide an independent review of the quality and relevance of the U.S. Air Force science and technology program.

The Secretary of the Air Force may act upon the Board's advice and recommendations.

The Board shall be comprised of no more than 60 members who are distinguished members of the science and technology communities, industry, and academia.

The Board members shall be appointed by the Secretary of Defense, and their appointments will be renewed on an annual basis. Those members, who are not full-time or permanent part-time federal officers or employees, shall be appointed as experts and consultants under the authority of 5 U.S.C. 3109, and serve as special government employees.

The Secretary of the Air Force shall select the Board's Chairperson. In addition, the Secretary of the Air Force may appoint, as deemed necessary non-voting consultants to provide technical expertise to the Board. These consultants, if not full-time or part-time government employees, shall be appointed under the authority of 5 U.S.C. 3109, shall serve as special government employees, shall be appointed on an intermittent basis to work specific Board-related efforts, and shall have no voting rights.

Board members and consultants, with the exception of travel and per diem for official travel, shall serve without compensation. However, the Secretary of the Air Force, at his or her discretion, may authorize compensation to Board members and consultants in accordance with governing statutes, Executive Orders and regulations.

With DoD approval, the Board is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Board, and shall report all their recommendations and advice to the Board for full deliberation and discussion. Subcommittees or workgroups have no authority to make decisions on behalf of the chartered Board; nor can they report directly to the Department of Defense or any Federal officers or employees who are not Board members.

Subcommittee members, who are not Board members, shall be appointed in the same manner as the Board members.

The Board shall meet at the call of the Board's Designated Federal Officer, in consultation with the Chairperson. The estimated number of Board meetings is four per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the U.S. Air Force Scientific Advisory Board's membership about the Board's mission and functions. Written statements may be submitted at any time or in response to the stated agenda of planned meeting of U.S. Air Force Scientific Advisory Board.

All written statements shall be submitted to the Designated Federal Officer for the U.S. Air Force Scientific Advisory Board, and this individual will ensure that the written statements are provided to the membership for their consideration. Contact information for the U.S. Air Force Scientific Advisory Board Designated Federal Officer can be obtained from the GSA's FACA Database— https://www.fido.gov/facadatabase/public.asp.

The Designated Federal Officer, pursuant to 41 CFR 102-3.150, will announce planned meetings of the U.S. Air Force Scientific Advisory Board. The Designated Federal Officer, at that time, may provide additional guidance on the submission of written statements that are in response to the stated agenda for the planned meeting in question.

Dated: April 23, 2010.
Mitchell S. Bryman,
Alternate OSD Federal Register Liaison Officer, Department of Defense.

[FR Doc. 2010-9899 Filed 4-28-10; 8:45 am]

BILLING CODE 5001-06-P